DEPARTMENT OF COMMERCE

Census Bureau

Agency Information Collection Activities; Submission to the Office of Management and Budget (OMB) for Review and Approval; Comment Request; Service Annual Survey (SAS)

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Service Annual Survey, prior to the submission of the information collection request (ICR) to OMB for approval.

DATES: To ensure consideration, comments regarding this proposed information collection must be received on or before November 20, 2020.

ADDRESSES: Interested persons are invited to submit written comments by email to Thomas.J.Smith@census.gov. Please reference Service Annual Survey in the subject line of your comments. You may also submit comments, identified by Docket Number USBC-2020-0026, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Edward Watkins, Assistant Division Chief for Service Sectors, Economy-Wide Statistics Division, U.S. Census Bureau, (301) 763-4750, or email Edward.E.Watkins.III@census.gov

SUPPLEMENTARY INFORMATION:

I. Abstract

The Service Annual Survey (SAS) produces annual nationwide estimates of revenue and expenses for service industries. These service industries include all or portions of the following North American Industry Classification System (NAICS) sectors: Utilities (NAICS 22); Transportation and Warehousing (NAICS 48 AND 49); Information (NAICS 51); Finance and Insurance (NAICS 52); Real Estate and Rental and Leasing (NAICS 53); Professional, Scientific and Technical Services (NAICS 54); Administrative and Support and Waste Management and Remediation Services (NAICS 56); Educational Services (NAICS 61); Health Care and Social Assistance (NAICS 62); Arts, Entertainment, and Recreation (NAICS 71); Accommodation and Food Services (NAICS 72); and Other Services (NAICS 81).

For most industries, SAS produces estimates of revenue for selected detailed products. The program also collects and publishes information about sales generated from electronic sources (e-commerce). Inventory estimates are produced for selected industries in the Transportation and Information sectors. For industries with a significant non-profit component, separate estimates are developed for taxable firms and organizations exempt from federal income tax.

Data from the SAS are needed to provide a sound statistical basis for the formation of policy by various governmental agencies, private businesses, and trade associations, among other users. The media and the public also rely on these data to understand the health of the U.S. service sector. The Bureau of Economic Analysis, the primary Federal user of these annual program statistics, uses the information in developing the national income and product accounts, compiling benchmark and annual input-output tables, and computing Gross Domestic Product by industry. The Bureau of Labor Statistics uses the data as inputs to its Producer Price Index and in developing productivity measurements. The Centers for Medicare and Medicaid Services uses the data in the development of the National Health Expenditure Accounts. The Federal Communications Commission (FCC) uses the data as a means for assessing FCC policy. The Census Bureau uses the data to provide new insight into changing structural and cost conditions that will impact the planning and design of future Economic Census questionnaires.

Among the many private sector entities that rely on SAS data, trade and professional organizations, like the Coalition of Service Industries, use the data to analyze industry trends and benchmark their own statistical programs, develop forecasts, and evaluate regulatory requirements. Private businesses use the data to measure market share, analyze business potential, and plan investment decisions. Private industry also uses the data as a tool for marketing analysis. The media uses the data for news reports and background information.

Through the SAS, the Census Bureau collects data from the largest firms in the service sectors and from a sample of small- and medium-sized businesses selected using a stratified sampling procedure. The Census Bureau reselects the samples periodically, generally at 5-year intervals. The Census Bureau uses a secure online reporting instrument (Centurion) for all SAS data collection. This electronic system of reporting allows respondents easier access, and more convenience and flexibility than paper survey forms. In rare cases where the company has no access to the internet, the Census Bureau can arrange for the company to provide data to an analyst via telephone.

The Census Bureau plans to make the following changes:

A. Content added related to the COVID-19 pandemic, revenues from telemedicine services: Expand industries provided by the telemedicine question to include hospitals (NAICS 622) and nursing and residential care facilities (NAICS 623) in addition to ambulatory health care providers (NAICS 621) and revise the current telemedicine question for ambulatory health care providers to match the new content added for hospitals and nursing and residential care facilities.

The primary objective of expanding the scope of industries receiving the telemedicine services question is to measure the impact of the COVID-19 pandemic on the healthcare sector, and meet the needs of the data user community. As economic conditions and the pandemic evolve, the Census Bureau may make further modifications to the SAS.

B. Revisions related to integrating annual surveys: The Census Bureau is undertaking an initiative to integrate and re-engineer select annual programs. Programs include the Annual Survey of Manufactures (ASM), Annual Retail Trade Survey (ARTS), Annual Wholesale Trade Survey (AWTS), Services Annual Survey (SAS), Annual Capital Expenditures Survey (ACES), Manufacturing Shipments Inventories and Unfilled Orders (M3UFO), and Company Organizational Survey (COS). Efforts include coordinating collection strategies/instruments/communication; integrating, changing or revising content; ensuring content is relevant; coordinating samples; and improving frame and coordinating status updates across annual surveys. The initiative to integrate and re-engineer select annual programs is scheduled to begin implementation in survey year 2023. The goal is to shift select annual programs from individual independent surveys to a streamlined integrated annual program. The new annual program will move from industry focused, individual surveys to requesting a more holistic view of the companies. Prior to survey year 2023, the Census Bureau plans to begin to align our annual programs and improve efficiencies across programs in targeted areas related to consistent content, processes, and systems. The initiative is in response to data user needs (timely, granular, harmonized data), and declining response rates.

C. Beginning in survey year 2020, the operating expenses content on all SAS questionnaires will be slightly expanded from what has been collected over the past two reference periods to a version that will be used in both Economic Census years and non-Economic Census years. This change will aid in creating a consistent survey experience for respondents from year to year and better meet the needs of our data users.

II. Method of Collection

The Census Bureau collects this information via the internet, but in rare cases when respondents have no access to the internet, the Census Bureau will collect the information by telephone.

III. Data

OMB Control Number: 0607-0422.

Form Number(s): The Service Annual Survey program consists of 91 unique questionnaires for respondents in different industries, which are too extensive to list here. All SAS questionnaires can be viewed at https://www.census.gov/programs-surveys/sas/technical-documentation/questionnaire-app.html.

Type of Review: Regular submission, Request for a Revision of a Currently Approved Collection.

Affected Public: Businesses or other for-profit organizations; Not-for-profit institutions; Government hospitals located in the United States.

Estimated Number of Respondents: 90,590.

Estimated Time Per Response: 3 to 6 hours depending on questionnaire.

Estimated Total Annual Burden Hours: 139,889.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments submitted in response to this notice are a matter of public record. The Census Bureau will include, or summarize, each comment in the request to OMB to approve this ICR. Before including address, phone number, email address, or other personal identifying information, commenters should be aware that the entire comment—including personal identifying information—may be made publicly available at any time. While commenters may ask the Census Bureau to withhold personal identifying information from public review, the Census Bureau cannot guarantee that it will be able to do so.

Sheleen Dumas,
Department PRA Clearance Officer, Office of the Chief Information Officer, Commerce Department.

[FR Doc. 2020-20794 Filed 9-18-20; 8:45 am]

BILLING CODE 3510-07-P